COMMODITY FUTURES TRADING COMMISSION

Notice of Sunshine Act Meeting

Agency Holding the Meeting: Commodity Futures Trading Commission.

Time and Date: 10 a.m., Friday, June 16, 2006.

Place: 1155 21st St., NW., Washington, DC, 9th Floor Commission Conference Room.

Status: Closed.

Matters to be Considered: Rule Enforcement Review.

FOR FURTHER INFORMATION CONTACT: Eileen A. Donovan, 202-418-5100.

Eileen A. Donovan,
Acting Secretary of the Commission.

[FR Doc. 06-4997 Filed 5-25-06; 4:06 pm]

BILLING CODE 6351-01-M